SMALL BUSINESS ADMINISTRATION

[Disaster Declaration #13579 and #13580]

Illinois Disaster Number IL-00041

AGENCY: U.S. Small Business Administration.

ACTION: Amendment 1.

SUMMARY: This is an amendment of the Presidential declaration of a major disaster for the State of Illinois (FEMA-4116-DR), dated 05/10/2013.

Incident: Severe Storms, Straight-line Winds and Flooding.

Incident Period: 04/16/2013 through 05/05/2013.

Effective Date: 05/22/2013.

Physical Loan Application Deadline Date: 07/09/2013.

EIDL Loan Application Deadline Date: 02/10/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Illinois, dated 05/10/2013 is hereby amended to include the following areas as adversely affected by the disaster:

Primary Counties: (Physical Damage and Economic Injury Loans): Bureau; Crawford; Henderson; Knox; Livingston; Marshall; Mason; Mcdonough; Peoria; Rock Island; Schuyler; Stark; Tazewell; Woodford.

Contiguous Counties: (Economic Injury Loans Only):

Illinois: Adams; Brown; Cass; Clark; Ford; Hancock; Henry; Jasper; Lawrence; Logan; Mclean; Menard; Mercer; Richland; Whiteside.

Indiana: Knox; Sullivan.

Iowa: Clinton; Des Moines; Lee; Louisa; Muscatine; Scott.

All other information in the original declaration remains unchanged.

(Catalog of Federal Domestic Assistance Numbers 59002 and 59008)

James E. Rivera,
Associate Administrator for Disaster Assistance.

[FR Doc. 2013-13252 Filed 6-3-13; 8:45 am]

BILLING CODE 8025-01-P